DEPARTMENT OF VETERANS AFFAIRS

Veterans' Advisory Committee on Rehabilitation (VACOR), Notice of Meeting

The Department of Veterans Affairs (VA) gives notice under Public Law 92-463 (Federal Advisory Committee Act) that a meeting of the Veterans' Advisory Committee on Rehabilitation will be held on December 7-8, 2006 in Room 442 at the Department of Veterans Affairs, 811 Vermont Avenue, Washington, DC. Sessions on both days will begin at 8 a.m. On December 7, the session will end at 4:30 p.m. and on December 8 at noon. The meeting is open to the public.

The purpose of the Committee is to provide recommendations to the Secretary of Veterans Affairs on the rehabilitation needs of veterans with disabilities and on the administration of VA's rehabilitation programs.

During the meeting, there will be briefings on various VA initiatives to meet the rehabilitation needs of veterans, particularly veterans of Operation Iraqi Freedom and Operating Enduring Freedom. The Committee will also focus on how VA's polytrauma centers are addressing the specific requirements of the most severely disabled veterans returning from current war zones.

No time will be allocated at this meeting for oral presentations from the public. Any member of the public wishing to attend the meeting is requested to contact Ms. Jennifer Smith, Designated Federal Officer, at (202) 273-7308. The Committee will accept written comments. Comments can be addressed to Ms. Smith at the Department of Veterans Affairs, Veterans Benefits Administration (28), 810 Vermont Avenue, NW., Washington, DC 20420. In communication with the Committee, writers must identify themselves and state the organizations, associations, or person(s) they represent.

By direction of the Secretary.
Dated: November 8, 2006.
E. Philip Riggin,
Committee Management Officer.

[FR Doc. 06-9207 Filed 11-15-06; 8:45 am]

BILLING CODE 8320-01-M